SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: June 1-30, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR Part 806, Subpart E

1. Aqua Pennsylvania, Inc.—Susquehanna Division, GF Certificate No. GF-202106166, Athens Borough, Bradford County, Pa.; Well 19; Issue Date: June 9, 2021.

2. Vulcan Construction Materials, LLC—Hanover Quarry, GF Certificate No. GF-202106167, Oxford, Conewago, and Berwick Townships, Adams County, Pa.; Quarry Pit (Sump) and consumptive use; Issue Date: June 9, 2021.

3. Corning Incorporated—Houghton Park, GF Certificate No. GF-202106168, City of Corning, Steuben County, N.Y.; Wells 1, 2, 3, and 4; Issue Date: June 9, 2021.

4. Municipal Authority of the Borough of Mansfield—Public Water Supply System, GF Certificate No. GF-202106169, Richmond Township, Tioga County, Pa.; Springs 1 and 2 and Webster Reservoir; Issue Date: June 17, 2021.

5. Williamsport Municipal Water Authority—Public Water Supply System, GF Certificate No. GF-202106170, Williamsport City, Lycoming County, Pa.; Wells 3, 4, 5, 6, 7, 8, and 9, Mosquito Creek, and Hagermans Run; Issue Date: June 17, 2021.

6. Galen Hall Country Club, Inc.—Galen Hall Country Club, GF Certificate No. GF-202106171, South Heidelberg Township, Berks County, Pa.; the Well; Issue Date: June 21, 2021.

7. Gold Bond Building Products, LLC—Milton Paper Plant, GF Certificate No. GF-202106172, White Deer Township, Union County, Pa.; Wells 4, 5, and 6 and consumptive use; Issue Date: June 21, 2021.

8. Country Club of Scranton, GF Certificate No. GF-202106173, South Abington Township, Lackawanna County, Pa.; consumptive use; Issue Date: June 22, 2021.

9. Gary and Robert Mahany—Gary and Robert Mahany Farms, GF Certificate No. GF-202106174, Towns of Hornellsville and Dansville, Steuben County, N.Y.; Canisteo River, Lime Kiln Creek, Manmade Pond 2, and Marsh Ditch; Issue Date: June 22, 2021.

Dated: July 14, 2021.
Jason E. Oyler,
General Counsel and Secretary to the Commission.

[FR Doc. 2021-15264 Filed 7-16-21; 8:45 am]

BILLING CODE 7040-01-P